FEDERAL HOUSING FINANCE AGENCY

[No. 2024-N-14]

Privacy Act of 1974; System of Records

AGENCY: Office of Inspector General, Federal Housing Finance Agency (FHFA-OIG).

ACTION: Notice of a new system of records.

SUMMARY: In accordance with the requirements of the Privacy Act of 1974, as amended (Privacy Act), the Federal Housing Finance Agency Office of Inspector General (FHFA-OIG) is establishing FHFA-OIG-9, “Office of Counsel Legal Matters System” (System) for the purpose of collecting information that FHFA-OIG's Office of Counsel will use in the course of providing legal opinions/advice, participating in administrative hearings, preparing for litigation, and completing other legal projects and assignments.

DATES: In accordance with 5 U.S.C. 552a(e)(4) and (11), this system of records will go into effect without further notice on October 23, 2024, unless otherwise revised pursuant to comments received. Routine uses will go into effect on November 22, 2024. Comments must be received on or before November 22, 2024. FHFA-OIG will publish a new notice if the effective date is delayed in order for the Agency to review the comments or if changes are made based on comments received.

ADDRESSES: Submit comments to FHFA-OIG, identified by “No. 2024-N-14,” using any one of the following methods:

• Federal eRulemaking Portal: https://www.regulations.gov. Follow the instructions for submitting comments. If you submit your comments to the Federal eRulemaking Portal, please also send it by email to FHFA-OIG at privacy@fhfaoig.gov to ensure timely receipt by FHFA-OIG. Please include “Comments/FHFA-OIG SORN,” in the subject line of the message.

• U.S. Mail, United Parcel Service, Federal Express, or Other Mail/Delivery Service: The mailing address for comments is: Gregg Schwind, Attorney Advisor, Attention: Comments/FHFA-OIG SORN, Office of Inspector General, Federal Housing Finance Agency, 400 Seventh Street SW, 3rd Floor, Washington, DC 20219. Please note that all mail sent to FHFA via the U.S. Postal Service is routed through a national irradiation facility, a process that may delay delivery by approximately two weeks. For any time-sensitive correspondence, please plan accordingly. See SUPPLEMENTARY INFORMATION for additional information on submission and posting of comments.

FOR FURTHER INFORMATION CONTACT: Gregg Schwind, Attorney Advisor, privacy@fhfaoig.gov or (202) 730-4933 (not a toll-free number), Office of Inspector General, Federal Housing Finance Agency, 400 Seventh Street SW, 3rd Floor, Washington, DC 20219. For TTY/TRS users with hearing and speech disabilities, dial 711 and ask to be connected to any of the contact number above.

SUPPLEMENTARY INFORMATION:

I. Comments

FHFA-OIG seeks public comments on a new system of records and will take all comments into consideration. See 5 U.S.C. 552a(e)(4) and (11). In addition to referencing “Comments/No. 2024-N-14,” please reference “FHFA-OIG-9, Office of Counsel Legal Matters System.”

FHFA-OIG will post all public comments on the FHFA-OIG public website at www.fhfaoig.gov, except as described below. Commenters should submit only information that the commenter wishes to make available publicly. FHFA-OIG may post only a single representative example of identical or substantially identical comments, and in such cases will generally identify the number of identical or substantially identical comments represented by the posted example. FHFA-OIG may, in its discretion, redact or refrain from posting all or any portion of any comment that contains content that is obscene, vulgar, profane, or threatens harm. All comments, including those that are redacted or not posted, will be retained in their original form in FHFA-OIG's internal file and considered as required by all applicable laws. Commenters that would like FHFA-OIG to consider any portion of their comment exempt from disclosure on the basis that it contains trade secrets, or financial, confidential or proprietary data or information, should follow the procedures in section IV.D. of FHFA's Policy on Communications with Outside Parties in Connection with FHFA Rulemakings, see https://www.fhfa.gov/sites/default/files/documents/Ex-Parte-Communications-Public-Policy_3-5-19.pdf. FHFA-OIG cannot guarantee that such data or information, or the identity of the commenter, will remain confidential if disclosure is sought pursuant to an applicable statute or regulation. See 12 CFR 1202.8, 12 CFR 1214.2, and FHFA's FOIA Reference Guide at https://www.fhfa.gov/about/foia-reference-guide for additional information.

II. Introduction

This notice informs the public of FHFA-OIG's proposal to establish and maintain a new system of records. This notice satisfies the Privacy Act requirement that an agency publish a system of records notice in the Federal Register when establishing a new or making a significant change to an agency's system of records. Congress has recognized that application of all requirements of the Privacy Act to certain categories of records may have an undesirable and often unacceptable effect upon agencies in the conduct of necessary public business. Consequently, Congress established general exemptions and specific exemptions that could be used to exempt records from provisions of the Privacy Act. Congress also required that exempting records from provisions of the Privacy Act would require the head of an agency to publish a determination to exempt a record from the Privacy Act as a rule in accordance with the Administrative Procedure Act. Records and information in this system of records are not exempt from the requirements of the Privacy Act.

As required by the Privacy Act, 5 U.S.C. 552a(r), and pursuant to section 7 of Office of Management and Budget (OMB) Circular No. A-108, “Federal Agency Responsibilities for Review, Reporting, and Publication under the Privacy Act,” prior to publication of this notice, FHFA-OIG submitted a report describing the system of records covered by this notice to the OMB, the Committee on Oversight and Accountability of the House of Representatives, and the Committee on Homeland Security and Governmental Affairs of the Senate.

III. New System of Records

The information in this system of records will be used by FHFA-OIG to process and track legal opinions/advice, administrative hearings, litigation, and other legal projects and assignments, for FHFA-OIG's Office of Counsel. The new system of records is described in detail below.

SYSTEM NAME AND NUMBER:

Office of Counsel Legal Matters System, FHFA-OIG-9.

SECURITY CLASSIFICATION:

Unclassified.

SYSTEM LOCATION:

Office of Inspector General, Federal Housing Finance Agency, 400 Seventh Street SW, Washington, DC 20219, and any alternate work site used by employees of FHFA-OIG and contractors assisting agency employees.

SYSTEM MANAGER(S):

Chief Counsel, Office of Counsel, (202) 649-3065, Office of Inspector General, Federal Housing Finance Agency, 400 Seventh Street SW, Washington, DC 20219.

AUTHORITY FOR MAINTENANCE OF THE SYSTEM:

12 CFR 1200.1 through 1200.2; 5 U.S.C. 301; 5 U.S.C. 402 through 403; 12 U.S.C. 4517(d); and 44 U.S.C. 3101.

PURPOSE(S) OF THE SYSTEM:

The purpose of this system is to support the Inspector General and FHFA-OIG staff on legal matters related to the functions, activities, operations, and employees of FHFA-OIG. In addition, the system of records may be used to track the status, progress, and disposition of matters assigned to the legal staff, generate reports about any past or planned activities for each matter, and capture summary information (such as timelines, due dates, and work assignments). The system will also maintain historical reference information pertaining to such matters.

CATEGORIES OF INDIVIDUALS COVERED BY THE SYSTEM:

Individuals covered by this system are employees of and detailees to the Office of Counsel, assigned contractor personnel; parties, witnesses, subjects, complainants, and other persons involved in litigation, administrative actions, and other legal proceedings and activities conducted by FHFA-OIG.

CATEGORIES OF RECORDS IN THE SYSTEM:

Records maintained in this system include memoranda, personnel documents, litigation documents, and other legal records that may contain information such as the names, addresses, email addresses, and telephone numbers for current or former FHFA-OIG employees and contractor personnel, as well as descriptions of the matters as provided by assigned FHFA-OIG staff. Records also may contain the names of individuals or companies and associated entities that are relevant to a matter, including parties, witnesses, agency employees, and agents of the entities that FHFA regulates, interagency partners, and may derive from pleadings and discovery materials generated in connection with civil proceedings or administrative actions, as well as correspondence or memoranda related to work assignments.

RECORD SOURCE CATEGORIES:

The names, business email addresses, and business telephone numbers for FHFA-OIG employees and contractor personnel are obtained from the FHFA-OIG Active Directory. Records also are provided by the Office of Counsel employees and contractor personnel assigned to legal matters and may derive from pleadings or discovery materials in connection with civil proceedings or administrative actions, as well as correspondence or memoranda related to work assignments.

ROUTINE USES OF RECORDS MAINTAINED IN THE SYSTEM, INCLUDING CATEGORIES OF USERS AND PURPOSES OF SUCH USES:

In addition to those disclosures generally permitted under 5 U.S.C. 552a(b) of the Privacy Act, these records and the information contained therein may be disclosed outside of FHFA-OIG as a routine use pursuant to 5 U.S.C. 552a(b)(3) as follows, to the extent such disclosures are compatible with the purposes for which the information was collected:

(1) To appropriate agencies, entities, and persons when—(a) FHFA-OIG suspects or has confirmed that there has been a breach of the system of records; (b) FHFA-OIG has determined that as a result of a suspected or confirmed breach there is a risk of harm to individuals, FHFA-OIG (including its information systems, programs, and operations), the Federal Government, or national security; and (c) the disclosure made to such agencies, entities, and persons as reasonably necessary to assist with FHFA-OIG's efforts to (i) respond to a suspected or confirmed breach or (ii) prevent, minimize, or remedy such harm.

(2) To another federal agency or federal entity, when FHFA-OIG determines that information from this system of records is reasonably necessary to assist the recipient agency or entity in: (a) responding to a suspected or confirmed breach or; (b) preventing, minimizing, or remedying the risk of harm to individuals, the recipient agency or entity (including its information systems, programs, and operations), the Federal Government, or to national security, resulting from a suspected or confirmed breach.

(3) When there is evidence of a violation or potential violation of law (whether civil, criminal, or regulatory in nature, and whether arising by general statute or particular program statute or by regulation, rule or order), the relevant records in the system of records may be referred, as a routine use, to the appropriate agency (e.g., federal, state, local, tribal, foreign, or a financial regulatory organization) charged with the responsibility of investigating or prosecuting such violations or charged with enforcing or implementing a statute, rule, regulation, or order.

(4) To any individual during the course of an inquiry or investigation conducted by FHFA-OIG, or in connection with litigation, if FHFA-OIG has reason to believe the individual to whom the record is disclosed may have further information relevant to the inquiry, investigation, or litigation.

(5) To contractors, agents, or other authorized persons performing work on behalf of FHFA-OIG who have a need to access the information in the performance of their official duties or activities.

(6) To appropriate third parties contracted by FHFA-OIG to facilitate mediation or other dispute resolution procedures or programs.

(7) To outside counsel contracted by FHFA-OIG, the U.S. Department of Justice (DOJ) (including United States Attorney Offices), or other federal agencies conducting litigation or in proceedings before any court, adjudicative or administrative body, when it is relevant and necessary to the litigation and one of the following is a party to the litigation or has an interest in the litigation:

a. FHFA-OIG;

b. An employee of FHFA-OIG in his/her official capacity;

c. An employee of FHFA-OIG in his/her individual capacity where DOJ or FHFA-OIG has agreed to represent the employee; or

d. The United States or a federal agency, and FHFA-OIG determines that the records are relevant and necessary to the litigation and the use of the records is compatible with the purpose for which FHFA-OIG collected the records.

(8) To the National Archives and Records Administration or other federal agencies pursuant to records management inspections being conducted under the authority of 44 U.S.C. 2904 and 2906.

(9) To an agency, organization, or individual for the purpose of performing audit or oversight activities as authorized by law, but only such information as is relevant and necessary to such activities.

(10) To another federal Office of the Inspector General, law enforcement Task Force, or other federal, state, local, foreign, territorial, or tribal unit of government, other public authorities, or self-regulatory organizations for the purpose of preventing and/or identifying fraud, waste, or abuse related to FHFA's programs or operations.

(11) To other federal Offices of Inspector General or other entities, during the conduct of internal and external peer reviews of FHFA-OIG.

(12) To the public or to the media for release to the public when the matter under audit, review, evaluation, investigation, or inquiry has become public knowledge, or when the Inspector General determines that such disclosure is necessary either to preserve confidence in the integrity of FHFA-OIG's audit, review, evaluation, investigative, or inquiry processes or is necessary to demonstrate the accountability of FHFA-OIG employees, officers or individuals covered by the system, unless the Inspector General or his/her delegee determines, after consultation with counsel and the Senior Privacy Official, that release of the specific information in the context of a particular case would constitute an unwarranted invasion of personal privacy.

(13) To Congress, congressional committees, or the staffs thereof, once an FHFA-OIG report or management alert has become final and the Inspector General determines that its disclosure is necessary to fulfill the Inspector General's responsibilities under the Inspector General Act of 1978.

(14) To a federal agency or other entity which requires information relevant to a decision concerning the hiring, appointment, or retention of an employee or contractor; the assignment, detail, or deployment of an employee or contractor; the issuance, renewal, suspension, or revocation of an employee's or contractor's security clearance; the execution of a security or suitability investigation; the adjudication of liability; or coverage under FHFA-OIG's liability insurance policy.

(15) To the Council of the Inspectors General on Integrity and Efficiency and its committees, another federal Office of Inspector General, or other Federal law enforcement office in connection with an allegation of wrongdoing by the Inspector General or by designated FHFA-OIG staff members.

POLICIES AND PRACTICES FOR STORAGE OF RECORDS:

Records are maintained in electronic format. Electronic records are stored on FHFA-OIG's secure network, authorized cloud service providers, and authorized contractor networks located within the continental United States. Paper records are stored in locked offices, locked file rooms, and locked file cabinets or safes.

POLICIES AND PRACTICES FOR RETRIEVAL OF RECORDS:

Records will be retrieved primarily by an individual's name or business email address but may also be obtained by a search using any search term or filter.

POLICIES AND PRACTICIES FOR RETENTION AND DISPOSAL OF RECORDS:

Records are retained and disposed of in accordance with FHFA's Comprehensive Record Schedule, Section 4 (N1-543-11-1, approved on 01/11/2013) and the FHFA-OIG File Plan.

ADMINISTRATIVE, TECHNICAL, AND PHYSICAL SAFEGUARDS:

Records are maintained in controlled access areas. Electronic records are protected by restricted access procedures, including user identifications and passwords. Only FHFA-OIG staff (and FHFA-OIG contractors assisting such staff) whose official duties require access are allowed to view, administer, and control these records. The System Owner controls access to this System and limits access in accordance with the above.

RECORD ACCESS PROCEDURES:

See “Notification Procedures” Below.

CONTESTING RECORD PROCEDURES:

See “Notification Procedures” Below.

NOTIFICATION PROCEDURES:

Individuals seeking notification of any records about themselves contained in this system should address their inquiry via email to privacy@fhfaoig.gov, or by mail to the Office of Inspector General, Federal Housing Finance Agency, 400 Seventh Street SW, 3rd Floor, Washington, DC 20219, or in accordance with the procedures set forth in 12 CFR part 1204. Please note that all mail sent to FHFA-OIG via the U.S. Postal Service is routed through a national irradiation facility, a process that may delay delivery by approximately two weeks. For any time-sensitive correspondence, please plan accordingly.

EXEMPTIONS PROMULGATED FOR THE SYSTEM:

None.

HISTORY:

None.

Mary B. Schaefer,
Acting Chief Counsel, Federal Housing Finance Agency, Office of Inspector General.

[FR Doc. 2024-24483 Filed 10-22-24; 8:45 am]

BILLING CODE 8070-01-P